DEPARTMENT OF LABOR

Pension and Welfare Benefits Administration

National Summit on Retirement Savings

AGENCY: Pension and Welfare Benefits Administration, Labor.

ACTION: Notice of meeting.

SUMMARY: This document provides notice of the agenda for the National Summit on Retirement Savings, as called for by the Savings Are Vital to Everyone's Retirement (SAVER) Act, which amends Title I of the Employee Retirement Income Security Act of 1974.

DATES: The National Summit on Retirement Savings will be held on Wednesday, February 27, 2002 beginning at 6 pm EST and ending on Friday, March 1, 2002 at 12:45 pm EST.

ADDRESSES: The Summit will be held at the Capital Hilton, 16th and K Streets, NW., Washington, DC 20036

FOR FURTHER INFORMATION CONTACT: Julie Roberts, Office of the Assistant Secretary, Pension and Welfare Benefits Administration, US Department of Labor, Room S-2524, 200 Constitution Ave., NW., Washington, DC 20210, (202) 693-8300, or Mary Jost, Senior Director of Education, International Foundation of Employee Benefit Plans, 18700 West Bluemond Road, P.O. Box 69, Brookfield, WI 53008-0069, (262) 786-6700. These are not toll-free numbers.

SUPPLEMENTARY INFORMATION: On November 20, 1997, the President signed Public Law 105-92 (1997), the “Savings Are Vital to Everyone's Retirement Act of 1997” (SAVER). The SAVER legislation is aimed at advancing the public's knowledge and understanding of the importance of retirement savings by: (1) Providing a bipartisan National Summit on Retirement Savings co-hosted by the President and the Congressional Leadership in the House and Senate; and (2) establishing an ongoing educational program coordinated by the Department of Labor. The Summit will be held February 27 through March 1, 2002 in Washington, DC. The purpose of the Summit is to: (1) Increase public awareness of the value of personal savings for retirement, (2) advance the public's knowledge and understanding of retirement savings and its importance to the well being of all Americans, (3) facilitate the development of a broad-based, public retirement savings education program, (4) identify the barriers faced by workers who want to save for retirement, (5) identify the barriers which employers, especially small employers, face in assisting their workers in accumulating retirement savings, (6) examine the impact and effectiveness of individual employers who promote personal savings and retirement savings plan participation among their workers, (7) examine the impact and effectiveness of government programs at the Federal, State, and local levels to educate the public about retirement savings principles, (8) develop recommendations for governmental and private sector action to promote pensions and individual retirement savings, and (9) develop recommendations for the coordination of Federal, State, and local retirement savings education initiative. The Agenda for the National Summit on Retirement Savings follows.

This agenda is subject to change.

Draft Agenda

National Summit on Retirement Savings February 27-March 1, 2002

Saving For a Lifetime: Advancing Generational Prosperity

PRE-SUMMIT—Wednesday, February 27, 2002

3:00pm to 7:00pm Summit Registration Pick-up

5:45pm to 6:00pm Bus Departs Hotel for Reception, United States Botanic Garden

6:00pm to 7:30pm Delegate Reception

DAY 1—Thursday, February 28, 2002

8:00am to 10:00am Summit Registration Pick-up

8:00am to 9:00am Continental Breakfast

9:00am to 9:10am Presentation of Color Guard and National Anthem, Kathleen Stapleton of OSHA

9:10am to 9:30am Opening Remarks, Secretary Elaine L. Chao

9:30am to 9:35am Introduction of President Bush, Secretary Elaine L. Chao

9:35m to 9:50am Keynote Address, President George W. Bush (invited)

9:50am to 10:15am Retirement Security, Secretary Elaine L. Chao

10:15am to 10:45am Current State of Retirement Savings, Cynthia Drinkwater, Senior Director of Research, International Foundation of Employee Benefit Plans

10:45am to 10:55am Generational Theme, Assistant Secretary Ann Combs, Pension and Welfare Benefits Administration

10:55am to 11:00am Generational Video

11:00am to 11:15am Break

11:15am to 12:15pm Four Concurrent Breakout Sessions, Delegates will work in one of four teams, each charged with creating a retirement savings campaign for their assigned generation and lifestage. Facilitators and Generational Experts

Group A: The Millennial Generation in Youth (under 20)

Group B: Generation X in Rising Adulthood (20-39)

Group C: The Baby Boom Generation in Midlife (40-59)

Group D: The Silent Generation in Elderhood (60 and above)

12:30pm to 2:00pm Lunch, Importance of Retirement Savings, Federal Reserve Chairman Alan Greenspan

2:00pm to 5:15pm Concurrent Breakout Sessions, Delegates will review model programs and then develop action plans for retirement savings campaigns targeting the assigned generation and lifestage. Facilitators and Generational Experts

5:15pm to 5:45pm Break

5:45pm to 6:00pm Bus Departs Hotel for Reception and Dinner, The Great Hall, Thomas Jefferson Building, Library of Congress

6:00pm to 7:00pm Cocktail Reception

7:00pm to 9:00pm Dinner, Neil Howe and William Strauss, Generational Experts

DAY 2—Friday, March 1, 2002

8:00am to 9:00am Congressional Breakfast, Introduction of Congressional Members, Secretary Elaine L. Chao

9am to 11am Concurrent Breakout Sessions, Delegates will continue to develop and then share proposed action plans for feedback, improvement and discussion. Facilitators and Generational Experts

11am to 12:30pm Final Plenary Session, Action plans and insights for retirement savings campaigns Facilitators

12:30pm to 12:45pm Closing Remarks, Secretary Elaine L. Chao

Signed at Washington, DC, this 31st day of January 2002.
Paul R. Zurawski,
Deputy Assistant Secretary of Labor, Pension and Welfare Benefits Administration.

[FR Doc. 02-2743 Filed 2-4-02; 8:45 am]

BILLING CODE 4510-29-P